DEPARTMENT OF THE INTERIOR

Bureau of Land Management

DEPARTMENT OF AGRICULTURE

Forest Service

[LLWY920000/51010000.ER0000/LVRWK09K0990/241A; WYW-174598; IDI-35849]

Notice of Availability of the Final Environmental Impact Statement for the Gateway West 230/345/500-kV Transmission Line Project in Idaho and Wyoming and Proposed Land Use Plan Amendments

AGENCY: Bureau of Land Management, Interior; Forest Service, USDA.

ACTION: Notice of availability.

SUMMARY: In accordance with the National Environmental Policy Act of 1969, as amended, and the Federal Land Policy and Management Act of 1976, as amended, the Department of the Interior Bureau of Land Management (BLM) and the United States Department of Agriculture Forest Service (Forest Service) have prepared the Gateway West Transmission Line Project Final Environmental Impact Statement (EIS) and proposed Land Use Plan Amendments, and by this notice are announcing its availability.

DATES: BLM planning regulations state that any person who meets the conditions as described in the regulations (43 CFR 1610.5-2) may protest the BLM's proposed land use plan Amendment. A person who meets the conditions and files a protest must file the protest within 30 days of the date that the Environmental Protection Agency (EPA) publishes its notice of availability of this Final EIS in the Federal Register. The BLM and Forest Service are also requesting comments on the Final EIS. In order to be considered, written comments on the Final EIS must be received within 60 days after the EPA publishes its notice of availability in the Federal Register. The Forest Service appeal process will be initiated with the publication of the Record of Decision (ROD). Any additional public meetings or other public involvement activities for the Gateway West Transmission Line Project will be announced to the public by the BLM at least 15 days in advance through news releases, Web site announcements, or mailings.

ADDRESSES: Copies of the Final EIS have been sent to Federal, State, and local governments, and public libraries in the Project area, and to interested parties that previously requested a copy. The Final EIS and supporting documents will be available electronically on the following Web site: http://www.wy.blm.gov/nepa/cfodocs/gateway_west/. Copies of the Final EIS are available for public inspection during normal business hours at BLM and Forest Service office locations listed in the SUPPLEMENTARY INFORMATION section below.

Written comments on the Final EIS may be submitted by the following methods:

• Web site: http://www.wy.blm.gov/nepa/cfodocs/gateway_west.

• Email: Gateway_West_WYMail@blm.gov.

• Mail: Bureau of Land Management, Gateway West Project, P.O. Box 20879, Cheyenne, WY 82003.

• Courier or Hand Deliver: Bureau of Land Management, Gateway West Project, 5353 Yellowstone Road, Cheyenne, WY 82009.

All protests must be in writing and mailed to one of the following addresses:

Regular Mail: BLM Director (210), Attention: Brenda Williams, P.O. Box 71383, Washington, DC 20024-1383.

Overnight Mail: BLM Director (210), Attention: Brenda Williams, 20 M Street SE., Room 2134LM, Washington, DC 20003.

FOR FURTHER INFORMATION CONTACT: Walt George, Project Manager, Bureau of Land Management, Wyoming State Office, P.O. Box 20879, Cheyenne, WY 82003, or by telephone at 307-775-6116. Any persons wishing to be added to a mailing list of interested parties may write or call the Project Manager at this address or phone number. Persons who use a telecommunications device for the deaf (TDD) may call the Federal Information Relay Service (FIRS) at 1-800-877-8339, to contact the above individual during normal business hours. The FIRS is available 24 hours a day, 7 days a week, to leave a message or question with the above individual. You will receive a reply during normal business hours.

SUPPLEMENTARY INFORMATION: In May 2007, the Proponents (Idaho Power and Rocky Mountain Power) submitted a ROW application to the BLM requesting authorization to construct, operate, maintain, and decommission electric transmission lines on public lands. The application was revised in October 2007, August 2008, May 2009, January 2010, and February 2012 to reflect changes to the proposed Project. The purpose and need for the EIS is for the BLM and Forest Service to respond to the Proponents' ROW application for the Gateway West Transmission Project. Each agency will decide whether to grant, grant with modification, or deny the application.

The Gateway West Transmission Project with a capacity of 1,500 MW is planned from Glenrock, Wyoming to the Hemingway Substation, approximately 20 miles southwest of Boise, Idaho. The Project is approximately 1,000 miles long and composed of nine 500 kV segments and one 230 kV segment. The BLM is the lead Federal agency. Approximately 475 miles cross Federal lands, 75 miles cross State-owned lands, and 450 miles cross private lands.

The Proponents' objective for the Project is to improve the reliability and efficiency of both utilities' systems and address congestion problems with the western electrical grid. The Project is needed to meet projected load growth in the Proponents' Service Areas. The Project would also tap the developing renewable energy market, especially wind energy, in Idaho and Wyoming and would aid in delivering that energy throughout the region.

Project Scoping: On May 16, 2008, the BLM published in the Federal Register (73 FR 28425) its Notice of Intent to prepare an EIS pursuant to the National Environmental Policy Act (NEPA) (40 CFR 1501.7). The BLM is the lead Federal agency for the NEPA analysis process and preparation of the EIS. Cooperating agencies include the Forest Service, National Park Service, U.S. Fish and Wildlife Service, Bureau of Indian Affairs, and U.S. Army Corps of Engineers; the States of Idaho and Wyoming; Idaho Army National Guard; Cassia, Power, and Twin Falls Counties, Idaho; Lincoln, Sweetwater, and Carbon Counties, Wyoming; the Medicine Bow and Saratoga-Encampment-Rawlins Conservation Districts in Wyoming; and the city of Kuna in Idaho.

To allow the public an opportunity to review the proposal and Project information, the BLM held public meetings in June 2008 in: Twin Falls, Murphy, Pocatello, Boise, and Montpelier, Idaho; and Casper, Rawlins, Rock Springs, and Kemmerer, Wyoming. Issues and potential impacts to specific resources were identified during scoping and the course of the NEPA process.

The following Project issues were identified in the scoping process and are addressed in the EIS analysis:

• Siting on private lands versus public lands;

• Land use conflicts and consistency with land use plans;

• Electric grid reliability and separation distances of transmission lines;

• Effects on wildlife habitat, plants, and animals including threatened, endangered, and sensitive species (especially sage-grouse);

• Effects to visual resources and existing viewsheds;

• Effects to National Scenic and Historic Trails and their resources, qualities, values, and associated settings, and the primary use or uses;

• Effects to Native American traditional cultural properties and respected places;

• Effects to paleontological resources in southwest Wyoming;

• Avoiding sensitive areas such as National Monuments, National Conservation Areas, Wildlife Refuges, Areas of Critical Environmental Concern (ACECs), and State Parks;

• Effects to soils and water from surface-disturbing activities;

• Effect of the Project on local and regional socioeconomic conditions; and

• Management of invasive plant species and ensuring effective reclamation.

The Draft EIS: On July 29, 2011, the BLM and the Forest Service published in the Federal Register (76 FR 45609) their Notice of Availability (NOA) of the Draft EIS (EIS). The EPA's NOA published on the same day (76 FR 45555), which triggered a 90-day public comment period. To allow the public an opportunity to review and comment on the Draft EIS, the BLM held public meetings in September and October of 2011 in: Boise, Kuna, Mountain Home, Melba, Murphy, Twin Falls, Burley, Almo, American Falls, Pocatello, Fort Hall, and Montpelier, Idaho; Jackpot, Nevada; and Douglas, Rawlins, Rock Springs, and Kemmerer, Wyoming. Additional public meetings were held in February 2012 in Boise, Idaho, and Cheyenne, Wyoming, and a 30-day comment period was held in July 2012 to gather public comments on the sage-grouse impact analysis.

The BLM received over 2,600 comments, contained in 375 submissions, during the Draft EIS comment period. All comments are addressed in the Final EIS. In response to comments on the Draft EIS, the Proponents made changes to their proposal. These changes include:

• Dropped Segment #1E from the proposal;

• Realigned proposed routes in Wyoming to conform to the Governor's utility corridors through sage-grouse core areas (involves Segments #2 and 4);

• Eliminated one of the two circuits and associated tower and construction alternatives proposed for Segments #2-4;

• Eliminated the Creston and Bridger Substations;

• Adjusted to the construction timeline; and

• Made various alignment changes in all Segments. These changes range from less than 100 feet to several miles.

In consultation among the BLM, Cooperating Agencies, the Proponents, and local land owners, the following changes were made to alternatives analyzed in the Draft EIS:

• Alternative #5D was adjusted to avoid springs and a recreation area near the East Fork of Rock Creek in Idaho;

• Alternative #7I was shortened and routed west of Goose Creek in Cassia County, Idaho and re-labeled Alternative #7K. Alternatives #7H, #7J, and the portions of Alternative #7I not overlapping with Alternative #7K were dropped from further consideration;

• Design components of Alternatives #8D and #9D/F/G/H, near the Idaho National Guard Orchard Training Area, were modified to meet safety concerns for aircraft using the range;

• Alternative #9D/G was rerouted to reduce impacts to the Cove Non-motorized Vehicle Area; and

• Alternative #9E was rerouted to avoid preliminary priority sage-grouse habitat and a new subdivision near Murphy, Idaho.

The routes analyzed in the Final EIS reflect these revisions. The Final EIS analyzes the environmental consequences of the No Action alternative, the proposed action, 36 route alternatives, and land use plan amendments.

Preferred Alternative: In accordance with Department of the Interior regulations (43 CFR 46.425) the BLM has identified and analyzed its preferred route for each segment in the Final EIS. The BLM's preferred routes are:

Segment 1W: Revised Proposed 1W(a) and 1W(c) Routes.

Segment 2: Revised Proposed Route.

Segment 3: Proposed Route, including route 3A (a 345-kV connector line between substations).

Segment 4: Revised Proposed Route.

Segment 5: Proposed Route with the following variations: Alternatives 5B and 5E.

Segment 6: The proposal to upgrade the line voltage from 345-kV to 500-kV.

Segment 7: Proposed Route with the following variations: Alternatives 7B, 7C, 7D, and 7G. The Proposed Route in the East Hills and Alternative 7G will be micro-sited to avoid Preliminary Priority Sage-grouse Habitat (PPH).

Segment 8: Proposed Route with the following variation: Alternative 8B.

Segment 9: Revised Proposed Route with the following variation: Alternative 9E, revised to avoid PPH and the town of Murphy, Idaho.

Segment 10: Proposed Route.

The Forest Service's preferred route in the Medicine Bow-Routt (Segment 1W) is the Proposed Route. Its preferred route in the Caribou-Targhee National Forest (Segment #4) is the Proposed Route plus Alternative #4G. The Final EIS also identifies the route(s) preferred by cooperating agencies, where applicable.

BLM Land Use Plan Amendments and Protest Procedures: The BLM planning regulations (43 CFR 1610.5-3) require authorized uses of public lands to conform to approved land use plans. The BLM is proposing 18 land use plan amendments where the BLM preferred routes for the Project are not in conformance with the existing land use plans.

All proposed plan amendments comply with applicable Federal laws and regulations and apply only to Federal lands and mineral estate administered by the BLM.

Green River Resource Management Plan (RMP): One amendment for visual resource management.

Kemmerer RMP: Four amendments for visual resource management, National Historic Trails (the Oregon, California, Mormon Pioneer, and Pony Express National Historic Trails), and the Rock Creek/Tunp area.

Twin Falls Management Framework Plan (MFP): Two amendments for visual resource management and to allow a linear facility outside of existing corridors.

Jarbidge RMP: Six amendments for visual resource management, paleontological sites, the Oregon National Historic Trail, to adjust management objectives in an ACEC, and to allow a linear facility outside of existing corridors.

Morley Nelson Snake River Birds of Prey National Conservation Area RMP: One amendment to allow a linear facility outside of existing corridors.

Bennett Hills/Timmerman Hills MFP: Two amendments for visual resource management and archeological sites.

Kuna MFP: Two amendments for a historic site and to designate a new utility corridor.

Pursuant to BLM's planning regulations at 43 CFR 1610.5-2, any person who participated in the planning process for this Project and has an interest which is or may be adversely affected by the planning decisions may protest approval of the planning decisions within 30 days from date the EPA publishes its Notice of Availability in the Federal Register. Complete instructions for filing a protest with the Director of the BLM regarding any of these proposed land use plan amendments may be found in the “Dear Reader” Letter of the Gateway West Final EIS and at 43 CFR 1610.5-2.

Email and faxed protests will not be accepted as valid protests unless the protesting party also provides the original letter by either regular or overnight mail postmarked by the close of the protest period. Under these conditions, the BLM will consider the email or faxed protest as an advance copy and it will receive full consideration. If you wish to provide the BLM with such advance notification, please direct faxed protests to the attention of the BLM protest coordinator at 202-245-0028, and emails to Brenda_Hudgens-Williams@blm.gov.

All protests, including the follow-up letter to emails or faxes, must be in writing and mailed to one of the addresses listed in the ADDRESSES section of this notice.

Before including your phone number, email address, or other personal identifying information in your protest, you should be aware that your entire protest—including your personal identifying information—may be made publicly available at any time. While you can ask us in your protest to withhold your personal identifying information from public review, we cannot guarantee that we will be able to do so.

Forest Service Land Use Plan Amendments and the Appeal Process: The following land use plan amendments are proposed by the Forest Service in order for the Preferred Route crossing National Forest Lands to conform to the respective Forest Plans:

Medicine Bow Forest Plan: Amendments for management of visual resources, goshawk and amphibian habitat, and recreation.

Caribou Forest Plan: Amendments to designate a new utility corridor, goshawk habitat, snag/nesting habitat, scenery, and recreation.

There is no provision in Forest Service regulations to protest land use planning decisions. Following the Final EIS comment period, the Forest Service will issue a separate ROD for activities under its jurisdiction. Copies of the ROD will be mailed to interested parties on the Gateway West Transmission Project mailing list. Notice of this decision will be published in local newspapers and the respective papers of record. The ROD will have an appeal period before the decision becomes effective. The Forest Service ROD will contain the appropriate instructions for appeal.

The BLM Decision on the Project: Based on the environmental analysis in the Final EIS, the BLM Wyoming State Director will decide whether to grant, grant with modifications, or deny the Proposed Action, an Action Alternative, or any portion thereof on Public Lands and, if the Project is approved, how to approve all or a portion of this Project. This decision will be documented in the ROD and may include a phased or bifurcated decision on the Project.

A phased or bifurcated decision could be chosen to give additional time for further input from the various Federal, State, and local permitting agencies on one or more Project segments. Analysis in the Final EIS covers the entire Project, and Project-wide effects have been disclosed. The BLM is considering several factors, including the proposed construction schedule, other authorizing entities' preferred routes, environmental effects of analyzed routes, and opportunities to reach complementary siting decisions with other authorizing entities in making a decision on whether or not to authorize the entire Project on public land or if only a portion of the Project should be authorized at this time.

If the BLM pursues a phased or bifurcated decision, the initial decision would be made for a portion of the Project that has demonstrated independent utility. Rationale for a phased decision would be included in an initial ROD.

For the portion of the proposal not approved in the initial ROD, the BLM would initiate siting discussions with cooperating agencies and stakeholders. At the conclusion of those discussions, the BLM would determine whether additional environmental analysis is required and prepare further environmental documentation, as needed. The public would be afforded an opportunity to review and comment on any potential supplemental environmental review document. The BLM would respond to public comments and provide its rationale on a decision for the second segment with independent utility in a second ROD.

National Historic Preservation Act Conformance and Native American Consultation: The BLM will utilize and coordinate the NEPA commenting process to satisfy the public involvement process for Section 106 of the National Historic Preservation Act (16 U.S.C. 470f), as provided for in 36 CFR 800.2(d)(3). In coordination with consulting parties, the BLM has prepared and is in the process of finalizing a Programmatic Agreement pursuant to the requirements of 36 CFR 800.14(b)(1). Ongoing Native American Tribal consultations will continue to be conducted in accordance with policy, and Tribal concerns, including impacts on Indian trust assets, will be given due consideration. Federal, State, and local agencies, along with other stakeholders that may be interested or affected by the BLM's decision on this Project, are invited to participate.

Copies of the Final EIS are available for public inspection during normal business hours at the following locations:

• Bureau of Land Management, Wyoming State Office, Public Room, 5353 Yellowstone Road, Cheyenne, WY 82009;

• Bureau of Land Management, Casper Field Office, 2987 Prospector Drive, Casper, WY 82604;

• Bureau of Land Management, Rawlins Field Office, 1300 North Third Street, Rawlins, WY 82301;

• Bureau of Land Management, Rock Springs Field Office, 280 Highway 191 North, Rock Springs, WY 82901;

• Bureau of Land Management, Kemmerer Field Office, 312 Highway 189 North, Kemmerer, WY 83101;

• Bureau of Land Management, Idaho State Office, Public Room, 1387 South Vinnell Way, Boise, ID 83709;

• Bureau of Land Management, Pocatello Field Office, 4350 Cliffs Drive, Pocatello, ID 83204;

• Bureau of Land Management, Idaho Falls District Office, 1405 Hollipark Drive, Idaho Falls, ID 83401;

• Bureau of Land Management, Burley Field Office, 15 East 200 South, Burley, ID 83318;

• Bureau of Land Management, Twin Falls District Office, 2536 Kimberly Road, Twin Falls, ID 83301;

• Bureau of Land Management, Shoshone Field Office, 400 West F Street, Shoshone, ID 83325;

• Bureau of Land Management, Boise District Office, 3948 Development Avenue, Boise, ID 83705;

• Bureau of Land Management, Owyhee Field Office, 20 First Avenue West, Marsing, ID 83639;

• U.S. Department of Agriculture, Medicine Bow-Routt National Forest, 2468 Jackson Street, Laramie, WY 82070;

• U.S. Department of Agriculture, Medicine Bow-Routt National Forest, Douglas Ranger District, 2250 East Richards Street, Douglas, WY 82633;

• U.S. Department of Agriculture, Caribou-Targhee National Forest, Montpelier Ranger District, 322 North 4th Street, Montpelier, ID 83254; and

• U.S. Department of Agriculture, Sawtooth National Forest, Minidoka Ranger District, 3650 Overland Avenue, Burley, ID 83318.

A limited number of copies of the document will be available as supplies last. To request a copy, contact Walt George, Project Manager, BLM Wyoming State Office, P.O. Box 20879, Cheyenne, WY 82003.

Donald A. Simpson,
Wyoming State Director,
Brent L. Larson,
Forest Supervisor, Caribou-Targhee National Forest.

[FR Doc. 2013-09664 Filed 4-25-13; 8:45 am]

BILLING CODE 4310-22-P